POSTAL SERVICE

39 CFR Part 955

Rules of Practice Before the Postal Service Board of Contract Appeals; Corrections

AGENCY: Postal Service.

ACTION: Correcting amendments.

SUMMARY: On June 18, 2025, the Postal Service amended the rules of practice that govern all proceedings before the Postal Service Board of Contract Appeals. That document inadvertently misnumbered a paragraph. This document corrects the error.

DATES: Effective July 3, 2025.

ADDRESSES: Postal Service Judicial Officer Department, 2101 Wilson Boulevard, Suite 600, Arlington, VA 22201-3078.

FOR FURTHER INFORMATION CONTACT: Staff Counsel Sheena Allen at (240) 636-4158.

SUPPLEMENTARY INFORMATION: The final rule published on June 18, 2025, at 90 FR 25895, regarding amendments to the rules of practice that govern all proceedings before the Postal Service Board of Contract Appeals, contains an error. It inadvertently added the subparagraph number “(ii)” twice for § 955.29(c)(1). The Postal Service makes this change below to correct the error.

List of Subjects in 39 CFR Part 955

Administrative practice and procedure, Contract disputes, Postal Service.

Accordingly, for the reasons stated, 39 CFR part 955 is corrected by making the following correcting amendments:

PART 955—RULES OF PRACTICE BEFORE THE POSTAL SERVICE BOARD OF CONTRACT APPEALS

1. The authority citation for part 955 continues to read as follows:

Authority: 39 U.S.C. 204, 401; 41 U.S.C. 7101-7109.

2. In § 955.29, amend paragraph (c)(1) to read as follows:

§ 955.29 (Rule 29) Subpoenas.

* * * * *

(c) Requests for subpoenas. (1) A request for a subpoena must normally be filed at least:

(i) 15 days before the scheduled deposition of a witness or production by a witness or custodian of documents, electronically stored information, and tangible things;

(ii) 30 days before a scheduled hearing; or

(iii) Notwithstanding paragraphs (c)(1)(i) and (ii) of this section, the Board may honor requests for subpoenas not made within these time limits.

* * * * *

Kevin Rayburn,
Attorney, Ethics and Legal Compliance.

[FR Doc. 2025-12411 Filed 7-2-25; 8:45 am]

BILLING CODE P